DEPARTMENT OF AGRICULTURE

Animal and Plant Health Inspection Service

[Docket No. APHIS-2014-0062]

Privacy Act of 1974; System of Records

AGENCY: Animal and Plant Health Inspection Service, USDA.

ACTION: Notice of a new system of records.

SUMMARY: The Animal and Plant Health Inspection Service proposes to add a system of records to its inventory of records systems subject to the Privacy Act of 1974, as amended. The system of records is the Smuggling Interdiction and Trade Compliance (SITC) National Information Communication Activity System (SNICAS), USDA/APHIS-21. This notice is necessary to meet the requirements of the Privacy Act to publish in the Federal Register notice of the existence and character of record systems maintained by the agency.

DATES: In accordance with 5 U.S.C. 552a(e)(4) and (11), this notice is applicable upon publication, subject to a 30-day notice and comment period in which to comment on the routine uses described below. Please submit any comments by August 10, 2022.

ADDRESSES: You may submit comments by either of the following methods:

• Federal eRulemaking Portal: Go to http://www.regulations.gov. Enter APHIS-2014-0062 in the Search field. Select the Documents tab, then select the comment button in the list of documents.

• Postal Mail/Commercial Delivery: Send your comment to Docket No. APHIS-2014-0062, Regulatory Analysis and Development, PPD, APHIS, Station 3A-03.8, 4700 River Road Unit 118, Riverdale, MD 20737-1238.

Supporting documents and any comments we receive on this docket may be viewed at http://www.regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For general questions, please contact Mr. Kristian Rondeau, Director Field Operations, District 6, 2150 Centre Avenue, Building B, Fort Collins, CO 80526; (970) 494-7563. For Privacy Act questions concerning this system of records notice, please contact Ms. Tonya Woods, Director, Freedom of Information and Privacy Act Staff, 4700 River Road Unit 50, Riverdale, MD 20737; (301) 851-4076; email: APHISPrivacy@usda.gov. For USDA Privacy Act questions, please contact the USDA Chief Privacy Officer, Information Security Center, Office of Chief Information Officer, USDA, Jamie L. Whitten Building, 1400 Independence Ave. SW, Washington, DC 20250; email: USDAPrivacy@usda.gov.

SUPPLEMENTARY INFORMATION: Pursuant to the provisions of the Privacy Act of 1974 (5 U.S.C. 552a), notice is given that the Animal and Plant Health Inspection Service (APHIS) of the U.S. Department of Agriculture (USDA) is proposing to add a new system of records, entitled USDA/APHIS-21, Smuggling Interdiction and Trade Compliance (SITC) National Information Communication Activity System (SNICAS), to maintain a record of activities conducted by the agency pursuant to its mission and responsibilities authorized by the Plant Protection Act (7 U.S.C. 7701 et seq.); the Animal Health Protection Act (7 U.S.C. 8301 et seq.); and the Honey Bee Act (7 U.S.C. 281 et seq.). The purpose of the system is to record data and information about APHIS' SITC activities nationwide. SITC is within APHIS' Plant Protection and Quarantine program.

SNICAS supports the mission of SITC programs by providing, to SITC and other agency personnel, information that can be used to assist with detecting and preventing the unlawful entry and distribution into the United States of prohibited and/or non-compliant products that may harbor exotic plant and animal pests, diseases, or invasive species. SITC focuses on anti-smuggling and trade compliance efforts at ports of entry in the United States and in commerce to prevent the establishment of plant and animal pests and diseases, while maintaining the safety of U.S. ecosystems and natural resources. SITC is responsible for collecting, maintaining, and reviewing information to successfully and efficiently meet its mission.

SNICAS consists of a web-based system and paper records and contains information related to commodities that have been physically inspected and/or surveyed by SITC. The system contains records pertaining to U.S. ports of entry and commerce locations that are inspected or surveyed during daily operations. SNICAS also maintains and communicates information associated with SITC operational and administrative activities.

SITC officials use the information in SNICAS to identify and close pathways used for the introduction of prohibited commodities and those regulated commodities that lack the necessary certificates and permits to enter into U.S. commerce. SITC officials also use SNICAS to perform activities such as legal and regulatory actions; scientific research; risk, trend, pathway and targeting analyses; trade support; administrative and budgetary support; supervision and program management; and overall decision support services. Additionally, SITC officials use SNICAS to generate reports to evaluate the risk status of the commercial sites where regulated commodities are seized, the effectiveness of the program, and quality control of the data.

APHIS will share information from the system pursuant to the requirements of the Privacy Act and, in the case of its routine uses, when the disclosure is compatible with the purpose for which the information was compiled. However, APHIS proposes to exempt some records in the system from certain Privacy Act requirements in accordance with 5 U.S.C. 552a(k)(2). APHIS proposes to exempt the system from Privacy Act requirements including subsections (c)(3); (d); (e)(1); (e)(4)(G), (H), and (I); and (f). A proposed rule has been promulgated in accordance with the requirements of 5 U.S.C. 553(b), (c), and (d) and has been published in today's Federal Register ¹. An individual who is the subject of a record in this system may seek access to those records that are not exempt from the access provisions. A determination whether a record may be accessed will be made at the time a request is received.

¹ To view the proposed rule, go to www.regulations.gov and enter APHIS-2015-0008 in the Search field.

A report on the new system of records, required by 5 U.S.C. 552a(r), as implemented by Office of Management and Budget Circular A-108, was sent to the Chairman, Committee on Homeland Security and Governmental Affairs, United States Senate; the Chairwoman, Committee on Oversight and Reform, House of Representatives; and the Administrator, Office of Information and Regulatory Affairs, Office of Management and Budget.

Done in Washington, DC, this 21st day of June 2022.
Anthony Shea,
Administrator, Animal and Plant Health Inspection Service.

SYSTEM NAME AND NUMBER:

USDA/APHIS-21, Smuggling Interdiction and Trade Compliance (SITC) National Information Communication Activity System (SNICAS)

SECURITY CLASSIFICATION:

Sensitive but unclassified.

SYSTEM LOCATION:

The Animal and Plant Health Inspection Service (APHIS), within the U.S. Department of Agriculture (USDA), maintains records in a Government-approved cloud server accessed through secure data centers in the continental United States. Paper files are held at various Plant Protection and Quarantine (PPQ) Smuggling Interdiction and Trade Compliance national, district, and field offices.

SYSTEM MANAGER:

Deputy Administrator of Plant Protection and Quarantine, APHIS, USDA, 4700 River Road, Riverdale, MD 20737.

AUTHORITY FOR MAINTENANCE OF THE SYSTEM:

The Plant Protection Act (7 U.S.C. 7701 et seq.); the Animal Health Protection Act (7 U.S.C. 8301 et seq.); and the Honey Bee Act (7 U.S.C. 281 et seq.).

PURPOSES OF THE SYSTEM:

SITC focuses on anti-smuggling and trade compliance efforts at ports of entry in the United States and in commerce to prevent the establishment of plant and animal pests and diseases, while maintaining the safety of U.S. ecosystems and natural resources. SITC is responsible for collecting, maintaining, and reviewing information to successfully and efficiently meet its mission.

The purpose of SNICAS is to record data and information about SITC activities nationwide. SNICAS supports the mission of SITC programs by providing, to SITC and other agency personnel, information that can be used to assist with detecting and preventing the unlawful entry and distribution into the United States of prohibited and/or non-compliant products that may harbor exotic plant and animal pests, diseases, or invasive species.

SNICAS contains records pertaining to the U.S. ports of entry and commerce locations that are inspected or surveyed during daily operations. SNICAS also maintains and communicates information associated with SITC operational and administrative activities. The personally identifiable information within SNICAS is used by SITC officials to identify and close pathways used for the introduction of prohibited commodities and those regulated commodities that lack the necessary certificates and permits to enter into U.S. commerce.

SITC officials also use SNICAS to perform activities such as legal and regulatory actions; scientific research; risk, trend, pathway and targeting analyses; trade support; administrative and budgetary support; supervision and program management; and overall decision support services. Additionally, SITC officials use SNICAS to generate reports to evaluate the risk status of the commercial sites where regulated commodities are seized, the effectiveness of the program, and quality control of the data.

CATEGORIES OF INDIVIDUALS COVERED BY THE SYSTEM:

SNICAS contains personal and business identifiable information about individuals and companies who are associated with the importation, interstate, and/or intrastate movement of prohibited or restricted agricultural products along with any actions taken against said individual or company. The system also includes SITC employee information.

CATEGORIES OF RECORDS IN THE SYSTEM:

The categories of records maintained in the system consist of company/business or individual's name; contact information that includes address, telephone and fax numbers, and email address; personal identification number, which may include Social Security number or tax identification number; date of birth; gender; business affiliation; criminal history; inspection or survey date; conveyance type and identification (license plate, vehicle identification number); geospatial data of trade activity; identification of product(s) to include product name, photographs of seized product(s), country of origin, identification number, and bar codes; U.S. port of entry, crossing, or import location; witness statements; and any other supporting documentation. As required, SITC may also collect other information associated with products, seizures, trace requests, product pathways, recall activities, and intelligence or analysis background reviews.

SITC employee information included in the system consists of name, title, work and email addresses, telephone number, badge number, SITC work unit, and area of coverage.

As required, other information associated with products, seizures, trace requests, product pathways, recall activities, and intelligence or analysis background reviews may be saved in the system.

RECORD SOURCE CATEGORIES:

SNICAS collects much of its information directly from individuals, Federal, State, Tribal, or local government and agencies, commercial entities, and companies/individuals that import, handle, distribute, or consume products that may be associated with the importation and/or interstate movement of prohibited or restricted agricultural products.

ROUTINE USES OF RECORDS MAINTAINED IN THE SYSTEM, INCLUDING CATEGORIES OF USERS AND PURPOSES OF SUCH USES:

In addition to those disclosures generally permitted under 5 U.S.C. 552a(b) of the Privacy Act, records maintained in the system may be disclosed outside USDA, as follows, to the extent that such disclosures are compatible with the purposes for which the information was collected:

(1) To Department of Homeland Security's Customs and Border Protection in conjunction with their cooperative mission to protect U.S. agriculture and natural resources;

(2) To other Federal agencies, agricultural contractors, and Tribal, State, county, and local government officials, to correlate activities due to overlapping authorities and functions in areas of agriculture, environment, human health, biological sciences, and consumer safety;

(3) To cooperating Federal, Tribal, State, county, and local government officials or other individuals or entities performing or working on a contract, service, grant, cooperative agreement, or other assignment for USDA, when necessary to accomplish an agency function related to this system of records;

(4) To appropriate law enforcement agencies, entities, and persons, whether Federal, foreign, State, local, or Tribal, or other public authority responsible for enforcing, investigating, or prosecuting an alleged violation or a violation of law or charged with enforcing, implementing, or complying with a statute, rule, regulation, or order issued pursuant thereto, when a record in this system on its face, or in conjunction with other records, indicates a violation or potential violation of law, whether civil, criminal, or regulatory in nature, and whether arising by general statute or particular program statute, or by regulation, rule, or court order issued pursuant thereto, if the information disclosed is relevant to any enforcement, regulatory, investigative, or prosecutive responsibility of the receiving entity;

(5) To the Department of Justice when the agency, or any component thereof, or any employee of the agency in his or her official capacity, or any employee of the agency in his or her individual capacity where the Department of Justice has agreed to represent the employee, or the United States, in litigation, where the agency determines that litigation is likely to affect the agency or any of its components, is a party to litigation or has an interest in such litigation, and the use of such records by the Department of Justice is deemed by the agency to be relevant and necessary to the litigation; provided, however, that in each case, the agency determines that disclosure of the records to the Department of Justice is a use of the information contained in the records that is compatible with the purpose for which the records were collected;

(6) To a court or adjudicative body in administrative, civil, or criminal proceedings when: (a) The agency or any component thereof; or (b) any employee of the agency in his or her official capacity; or (c) any employee of the agency in his or her individual capacity where the agency has agreed to represent the employee; or (d) the United States Government, is a party to litigation or has an interest in such litigation, and by careful review, the agency determines that the records is therefore deemed by the agency to be for a purpose that is compatible with the purpose for which the agency collected the records;

(7) To appropriate agencies, entities, and persons when: (a) USDA suspects or has confirmed that there has been a breach of the system of records; (b) USDA has determined that as a result of the suspected or confirmed breach there is a risk of harm to individuals, USDA (including its information systems, programs, and operations), the Federal Government, or national security; and (c) the disclosure made to such agencies, entities, and persons is reasonably necessary to assist in connection with USDA's efforts to respond to the suspected or confirmed compromise and prevent, minimize, or remedy such harm;

(8) To another Federal agency or Federal entity, when the USDA determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach;

(9) To USDA contractors and other parties engaged to assist in administering the program, analyzing data, and conducting audits. Such contractors and other parties will be bound by the nondisclosure provisions of the Privacy Act;

(10) To USDA contractors, partner agency employees or contractors, or private industry employed to identify patterns, trends, or anomalies indicative of fraud, waste, or abuse;

(11) To a Congressional office from the record of an individual in response to any inquiry from that Congressional office made at the written request of the individual to whom the record pertains; and

(12) To the National Archives and Records Administration (NARA) or to the General Services Administration for records management activities conducted under 44 U.S.C. 2904 and 2906.

DISCLOSURE TO CONSUMER REPORTING AGENCIES:

None.

POLICIES AND PRACTICES FOR STORAGE OF RECORDS:

Electronic and paper records are stored at locations listed under “System Location” above. All documentation that exists in paper form is maintained by PPQ SITC officials nationwide, while electronic data are stored on hard disks within their work units or on the Azure cloud hosted by APHIS.

POLICIES AND PRACTICES FOR RETRIEVAL OF RECORDS:

SNICAS users can query and retrieve records on the following fields: Permit or emergency action notification form serial number, name of individual or business, address, and telephone number. Users can also search for records using a global search engine, quick list drop-down menu, or using the reports section of the system.

Records cannot be retrieved by Social Security number, birthdate, vehicle identification number, and tax identification numbers. However, this information may be contained in attached documents. These attached documents can only be accessed through associated parent records, and these documents can only be viewed by authorized SITC officials.

POLICIES AND PRACTICES FOR RETENTION AND DISPOSAL OF RECORDS:

APHIS is in the process of requesting records disposition authority from NARA, and these records will be retained until appropriate disposition authority is obtained from NARA.

ADMINISTRATIVE, TECHNICAL, AND PHYSICAL SAFEGUARDS:

SNICAS is a web-based system that can be accessed by individuals authorized by PPQ on a need-to-know basis. Authorized users can gain access to SNICAS records via a secure government network, which is only accessible after a user is added to the system by a system administrator and when the user logs onto the password-protected network. If the end user is away from their designated workstation, they can connect through the internet via a secure virtual private network connection. Security measures are in place to prevent outsiders from entering the system. Integrated Network Authentication is required for access to the system. The access control list for the database validates against the network identification of the user creating a 2-layer authentication scheme. PPQ SITC personnel have access to all of the data in the system but are limited to certain actions based on their assigned role. Non-SITC personnel within the agency may be provided “read-only” access allowing users to view all data within SNICAS but restricts editing or downloading data. These accounts use integrated network authentication to validate the end user and restrict access.

Electronic records are stored on secure file servers. SNICAS users gain access to the system through the system administrator with designated user-defined roles and level of access. SNICAS users obtain user -identification accounts that allow password-protected access through the intranet. Access is only available to computers logged onto the APHIS network. Domain network logon credentials are used to validate a user's access against a list of allowed SNICAS logons kept within the database, creating a 2-tier validation strategy. The web-based service identifies and validates USDA customers before they can access SNICAS.

Paper files are maintained in a safeguarded environment with controlled access only by authorized personnel. SITC officers, analysts, and supervisors are in positions of public trust that require background investigations and security clearances. Employees are also required to complete appropriate training to learn requirements for safeguarding records maintained under the Privacy Act.

SNICAS safeguards records and ensures that privacy requirements are met in accordance with Federal cyber security mandates. SNICAS provides continuous storage management, security administration, regular dataset backups, and contingency planning/disaster recovery.

RECORD ACCESS PROCEDURES:

All requests for access to records must be in writing and should be submitted to the APHIS Privacy Act Officer, 4700 River Road Unit 50, Riverdale, MD 20737; or by facsimile (301) 734-5941; or by email APHISPrivacy@usda.gov. In accordance with 7 CFR 1.112 (Procedures for requests pertaining to individual records in a record system), the request must include the full name of the individual making the request; the name of the system of records; and preference of inspection, in person or by mail. In accordance with 7 CFR 1.113, prior to inspection of the records, the requester shall present sufficient identification (e.g., driver's license, employee identification card, Social Security card, credit cards) to establish that the requester is the individual to whom the records pertain. In addition, if an individual submitting a request for access wishes to be supplied with copies of the records by mail, the requester must include with his or her request sufficient data for the agency to verify the requester's identity.

CONTESTING RECORD PROCEDURES:

Individuals seeking to contest or amend records maintained in this system of records must direct their request to the address indicated in the “RECORD ACCESS PROCEDURES” paragraph, above and must follow the procedures set forth in 7 CFR 1.116 (Request for correction or amendment to record). All requests must state clearly and concisely what record is being contested, the reasons for contesting it, and the proposed amendment to the record.

NOTIFICATION PROCEDURES:

Individuals may be notified if a record in this system of records pertains to them when the individuals request information utilizing the same procedures as those identified in the “RECORD ACCESS PROCEDURES” paragraph above.

EXEMPTIONS PROMULGATED FOR THE SYSTEM:

The Agency has exempted this system from subsections (c)(3); (d); (e)(1); (e)(4)(G), (H), and (I); and (f) of the Privacy Act pursuant to 5 U.S.C. 552a(k)(2). The exemptions will be applied only to the extent that the information in the system is subject to exemption pursuant to 5 U.S.C. 552a(k)(2). A proposed rule has been promulgated in accordance with the requirements of 5 U.S.C. 553(b), (c), and (e) and has been published in today's Federal Register ¹.

¹ To view the proposed rule, go to www.regulations.gov and enter APHIS-2015-0008 in the Search field.

HISTORY:

Not Applicable.

[FR Doc. 2022-14704 Filed 7-8-22; 8:45 am]

BILLING CODE 3410-34-P